DEPARTMENT OF HOUSING AND URBAN DEVELOPMENT

[Docket No. FR-6158-N-01]

Announcement of Tenant Protection Voucher Funding Awards for Fiscal Year 2018 for the Housing Choice Voucher Program

AGENCY: Office of the Assistant Secretary for Public and Indian Housing, HUD.

ACTION: Announcement of Fiscal Year 2018 awards.

SUMMARY: In accordance with Section 102(a)(4)(C) of the Department of Housing and Urban Development Reform Act of 1989, this document notifies the public of Tenant Protection Voucher (TPV) funding awards for Fiscal Year (FY) 2018 to public housing agencies (PHAs) under the Section 8 Housing Choice Voucher Program (HCVP). The purpose of this notice is to publish the names and addresses of awardees, and the amount of their non-competitive funding awards for assisting households affected by housing conversion actions, public housing relocations and replacements, moderate rehabilitation replacements, and HOPE VI demolitions.

FOR FURTHER INFORMATION CONTACT: Danielle L. Bastarache, Deputy Assistant Secretary, Office of Public Housing and Voucher Programs, Office of Public and Indian Housing, Department of Housing and Urban Development, 451 Seventh Street SW, Room 4204, Washington, DC 20410-5000, telephone (202) 402-5264. Hearing- or speech-impaired individuals may call HUD's TTY number at (800) 927-7589. (Only the “800” telephone number is toll-free.)

SUPPLEMENTARY INFORMATION: The regulations governing the HCVP are published at 24 CFR 982. The purpose of the rental assistance program is to assist eligible families to pay their rent for decent, safe, and sanitary housing in the private rental market. The regulations for allocating housing assistance budget authority under Section 213(d) of the Housing and Community Development Act of 1974 are published at 24 CFR part 791, subpart D.

The FY 2018 awardees announced in this notice were provided HCVP tenant protection vouchers (TPVs) funds on an as-needed, non-competitive basis, i.e., not consistent with the provisions of a Notice of Funding Availability (NOFA). TPV awards made to PHAs for program actions that displace families living in public housing were made on a first-come, first-served basis in accordance with PIH Notice 2018-04, “Voucher Funding in Connection with the Demolition or Disposition of Occupied Public Housing Units,” ¹ and PIH Notice 2018-09, “Implementation of the Federal Fiscal Year (FFY) 2018 Funding Provision for the Housing Choice Voucher Program.” ² Awards for the Rental Assistance Demonstration (RAD) were provided for Rental Supplement and Rental Assistance Payment Projects (RAD Second Component) consistent with PIH Notice 2012-32 (HA), REV-3, “Rental Assistance Demonstration-Final Implementation, Revision 3.” ³ Announcements of awards provided under the NOFA process for Mainstream, Designated Housing, Family Unification (FUP), and Veterans Assistance Supportive Housing (VASH) programs will be published in a separate Federal Register notice.

¹ Available at: https://www.hud.gov/sites/dfiles/PIH/documents/pih2018-04.pdf.

² Available at: https://www.hud.gov/sites/dfiles/PIH/documents/pih2018-09.pdf.

³ Available at: https://www.hud.gov/sites/documents/PIHNOTICE_2012-32_062015.PDF.

Awards published under this notice were provided to: (1) Assist families living in HUD-owned properties that are being sold; (2) assist families affected by the expiration or termination of their Project-based Section 8 and Moderate Rehabilitation contracts; (3) assist families in properties where the owner has prepaid the HUD mortgage; (4) assist families in projects where the Rental Supplement and Rental Assistance Payments contracts are expiring (RAD—Second Component); (5) provide relocation housing assistance in connection with the demolition of public housing; (6) provide replacement housing assistance for single room occupancy (SRO) units that fail housing quality standards (HQS); (7) assist families in public housing developments that are scheduled for demolition in connection with a HUD-approved HOPE VI revitalization or demolition grant, and (8) assist families consistent with PIH Notice 2018-02, “Funding Availability for Tenant Protection Voucher for Certain At-Risk Households in Low Vacancy Areas-Fiscal Year 2018.” ⁴

⁴ Available at: https://www.hud.gov/sites/dfiles/PIH/documents/pih2018-02.pdf.

A special administrative fee of $200 per occupied unit was provided to PHAs to compensate for any extraordinary HCVP administrative costs associated with the Multifamily Housing conversion actions.

The Department awarded total new budget authority of $79,434,039 to recipients under all the above-mentioned categories for 7,810 housing choice vouchers. This budget authority includes $1,097,364 of unobligated commitments made in FY 2017. These funds were reserved by September 30, 2017, but not contracted until FY 2018, and thus have been included with obligated commitments for FY 2018.

In accordance with Section 102(a)(4)(C) of the Department of Housing and Urban Development Reform Act of 1989 (103 Stat. 1987, 42 U.S.C. 3545), the Department is publishing the names and addresses of awardees, and their award amounts in Appendix A. The awardees are listed alphabetically by state for each type of TPV award.

Dated: April 19, 2019.
R. Hunter Kurtz,
Principal Deputy Assistant Secretary for Public and Indian Housing.

Section 8 Rental Assistance Programs Announcement of TPV Awards for Fiscal Year 2018
Housing agency | Address | Units | Award
Special Fees
Special Fees—At-Risk Households
MA: QUINCY HOUSING AUTHORITY | 80 CLAY STREET, QUINCY, MA 02170 | 0 | $12,000
MN: DULUTH HRA | P.O. BOX 16900, DULUTH, MN 55816 | 0 | 5,000
NJ: JERSEY CITY HOUSING AUTHORITY | 400 US HIGHWAY #1, JERSEY CITY, NJ 07306 | 0 | 1,600
PA: ERIE CITY HOUSING AUTHORITY | 606 HOLLAND STREET, ERIE, PA 16501 | 0 | 3,000
TN: MEMPHIS HOUSING AUTHORITY | P.O. BOX 3664, MEMPHIS, TN 38103 | 0 | 1,200
UT: HOUSING AUTHORITY OF SALT LAKE CITY | 1776 SW TEMPLE, SALT LAKE CITY, UT 84115 | 0 | 4,000
VA: FAIRFAX CO RED AND HNG AUTHORITY | 3700 PENDER DRIVE SUITE 300, FAIRFAX, VA 22030 | 0 | 28,200
Total for Special Fees—At-Risk Households |  | 0 | 55,000
Special Fees—Opt-Outs/Terminations
CA: CITY OF LOS ANGELES HSG AUTH | 2600 WILSHIRE BLVD., 3RD FLOOR , LOS ANGELES, CA 90057 | 0 | 7,400
CT: HARTFORD HOUSING AUTHORITY | 160 OVERLOOK TERRACE, HARTFORD, CT 06106 | 0 | 28,400
DC: D.C. HOUSING AUTHORITY | 1133 NORTH CAPITOL STREET NE, WASHINGTON, DC 20002 | 0 | 2,400
FL: HA TAMPA | 1514 UNION ST P.O. BOX 4766, TAMPA, FL 33607 | 0 | 34,000
FL: HA MIAMI BEACH | 200 ALTON ROAD, MIAMI BEACH, FL 33139 | 0 | 9,800
FL: HIALEAH HA | 75 EAST 6TH STREET, HIALEAH, FL 33010 | 0 | 2,800
FL: HA HOLLYWOOD | 7300 N DAVIE ROAD EXTENSION, HOLLYWOOD, FL 33024 | 0 | 13,400
IL: DUPAGE COUNTY HOUSING AUTHORITY | 711 EAST ROOSEVELT ROAD, WHEATON, IL 60187 | 0 | 13,400
KY: LOUISVILLE HOUSING AUTHORITY | 420 SOUTH EIGHTH STREET, LOUISVILLE, KY 40203 | 0 | 2,600
LA: EAST BATON ROUGE PH. HSG. AUTHORITY | 4731 NORTH BLVD., BATON ROUGE, LA 70806 | 0 | 10,400
MA: CHELSEA HOUSING AUTHORITY | 54 LOCKE STREET, CHELSEA, MA 02150 | 0 | 1,800
MN: DULUTH HRA | P.O. BOX 16900, DULUTH, MN 55816 | 0 | 400
MN: BEMIDJI HRA | 619 AMERICA AVE., BEMIDJI, MN 56601 | 0 | 1,200
MO: HOUSING AUTHORITY OF KANSAS CITY | 920 MAIN STREET, SUITE 701, KANSAS CITY, MO 64106 | 0 | 800
MO: RIPLEY COUNTY PHA | 3019 FAIR STREET, POPLAR BLUFF, MO 63901 | 0 | 3,000
NC: RALEIGH HOUSING AUTHORITY | 900 HAYNES STREET, RALEIGH, NC 27604 | 0 | 10,400
ND: RICHLAND COUNTY HOUSING AUTHORITY | 230 8TH AVENUE WEST, WEST FARGO, ND 58078 | 0 | 2,600
NM: EASTERN REGIONAL HOUSING | P.O. DRAWER 2057, 106 E REED, ROSWELL, NM 88202 | 0 | 5,200
NY: NYS HSG TRUST FUND CORPORATION | 38-40 STATE STREET, ALBANY, NY 12207 | 0 | 2,200
OH: COLUMBUS METRO HA | 880 EAST 11TH AVENUE, COLUMBUS, OH 43211 | 0 | 23,400
OH: LORAIN MHA | 1600 KANSAS AVENUE, LORAIN, OH 44052 | 0 | 7,600
OH: MANSFIELD MHA | P.O. BOX 1029, 150 PARK AVENUE WEST, MANSFIELD, OH 44901 | 0 | 8,000
SD: SIOUX FALLS HOUSING & | 630 SOUTH MINNESOTA, SIOUX FALLS, SD 57104 | 0 | 800
SD: PIERRE HOUSING & REDEVELOPMENT | 301 W PLEASANT AVE, PIERRE, SD 57501 | 0 | 4,600
SD: BROOKINGS HOUSING & | 1310 MAIN AVE, SOUTH, BROOKINGS, SD 57006 | 0 | 1,200
TN: TENNESSEE HOUSING DEV AGENCY | 502 DEADERICK STREET, 3RD FLOOR, NASHVILLE, TN 37243 | 0 | 600
TX: EDINBURG HOUSING AUTHORITY | P.O. BOX 295, EDINBURG, TX 78540 | 0 | 1,600
UT: WEBER COUNTY HOUSING AUTHORITY | 2661 WASHINGTON BLVD, OGDEN, UT 84401 | 0 | 11,400
VA: NORFOLK REDEVELOPMENT & HA | 201 GRANBY ST, P.O. BOX 968, NORFOLK, VA 23501 | 0 | 16,200
VA: BUCKINGHAM HOUSING DEVELOPMENT | 19 N GOLD HILL VILLAGE, NEW CANTON, VA 23123 | 0 | 4,000
WA: SEATTLE HOUSING AUTHORITY | 120 SIXTH AVENUE NORTH, P.O. BOX 19028, SEATTLE, WA 98109 | 0 | 2,400
WA: HA OF THE CITY OF WASHINGTON | 902 SOUTH “L” STREET, SUITE 2C, TACOMA, WA 98405 | 0 | 1,200
WI: WISCONSIN HOUSING & ECO. DEV | P.O. BOX 1728, MADISON, WI 53701 | 0 | 9,800
Total for Special Fees—Opt-Outs/Terminations |  | 0 | 245,000
Special Fees—Prepays
DE: WILMINGTON HOUSING AUTHORITY | 400 N WALNUT STREET, WILMINGTON, DE 19801 | 0 | 35,600
FL: HA FORT LAUDERDALE CITY | 437 SW 4TH AVENUE, FORT LAUDERDALE, FL 33315 | 0 | 9,600
MA: BOSTON HOUSING AUTHORITY | 52 CHAUNCY STREE, BOSTON, MA 02111 | 0 | 8,900
MI: DETROIT HOUSING COMMISSION | 1301 EAST JEFFERSON AVENUE, DETROIT, MI 48207 | 0 | 24,000
MN: DULUTH HRA | P.O. BOX 16900, DULUTH, MN 55816 | 0 | 1,200
NJ: NEW JERSEY DEPARTMENT OF HOUSING | 101 SOUTH BROAD STREET POST OFFICE BOX 051, TRENTON, NJ 08625 | 0 | 12,000
NY: NYS HSG TRUST FUND CORPORATION | 38-40 STATE STREET, ALBANY, NY 12207 | 0 | 29,400
VA: FAIRFAX CO RED AND HNG AUTHORITY | 3700 PENDER DRIVE, SUITE 300, FAIRFAX, VA 22030 | 0 | 22,600
Total for Special Fees—Prepays |  | 0 | 143,300
Special Fees—RAD
CA: SAN FRANCISCO HSG AUTH | 1815 EGBERT AVE., SAN FRANCISCO, CA 94124 | 0 | 96,200
CA: CITY OF LOS ANGELES HSG AUTH | 2600 WILSHIRE BLVD., 3RD FLOOR , LOS ANGELES, CA 90057 | 0 | 20,600
CA: COUNTY OF CONTRA COSTA HSG AUTH | 3133 ESTUDILLO ST, P.O. BOX 2759, MARTINEZ, CA 94553 | 0 | 5,600
IL: CHICAGO HOUSING AUTHORITY | 60 EAST VAN BUREN ST, 11TH FLOOR, CHICAGO, IL 60605 | 0 | 44,200
MD: HOUSING AUTHORITY OF BALTIMORE | 417 EAST FAYETTE STREET, BALTIMORE, MD 21201 | 0 | 9,600
OH: DAYTON METROPOLITAN HA | 400 WAYNE AVE POST OFFICE BOX 8750, DAYTON, OH 45401 | 0 | 13,000
Total for Special Fees—RAD |  | 0 | 189,200
Special Fees—Relocation-8bb Sunset
OR: COOS-CURRY HOUSING AUTHORITY | 1700 MONROE, NORTH BEND, OR 97459 | 0 | 1,000
WA: HA OF THE CITY OF RENTON | 2900 NE 10TH STREET, RENTON, WA 98056 | 0 | 2,400
Total for Special Fees—Relocation-8bb Sunset |  | 0 | 3,400
Total for Special Fees |  | 0 | 635,900
Public Housing TP
Choice Neighborhood Relocation (Sunset Provision)
CO: HA OF THE CITY OF COLORADO | 777 GRANT STREET, DENVER, CO 80203 | 58 | 750,894
CT: NORWALK HOUSING AUTHORITY | 24½ MONROE STREET, NORWALK, CT 06856 | 44 | 690,447
DC: D.C. HOUSING AUTHORITY | 1133 NORTH CAPITOL STREET NE, WASHINGTON, DC 20002 | 49 | 740,774
Total for Choice Neighborhood Relocation (Sunset Provision) |  | 151 | 2,182,115
Choice Neighborhood Replacement
KY: LOUISVILLE HOUSING AUTHORITY | 420 SOUTH EIGHTH STREET, LOUISVILLE, KY 40203 | 369 | 2,877,137
MA: BOSTON HOUSING AUTHORITY | 52 CHAUNCY STREET, BOSTON, MA 02111 | 20 | 288,780
Total for Choice Neighborhood Replacement |  | 389 | 3,165,917
CPD SRO—Replacement
CA: OAKLAND HOUSING AUTHORITY | 1619 HARRISON ST, OAKLAND, CA 94612 | 92 | 1,036,104
DC: D.C. HOUSING AUTHORITY | 1133 NORTH CAPITOL STREET NE, WASHINGTON, DC 20002 | 36 | 544,242
OH: DAYTON METROPOLITAN HA | 400 WAYNE AVE, P.O. BOX 8750, DAYTON, OH 45401 | 9 | 52,107
Total for CPD SRO-Replacement |  | 137 | 1,632,453
Mod Replacements
CA: COUNTY OF LOS ANGELES HA | 700 W MAIN STREET, ALHAMBRA, CA | 9 | 28,531
CA: OAKLAND HOUSING AUTHORITY | 1619 HARRISON ST, OAKLAND, CA 94612 | 8 | 90,096
CA: ALAMEDA COUNTY HSG AUTH | 22941 ATHERTON STREET, HAYWARD, CA 94541 | 52 | 776,736
CA: CITY OF SANTA ROSA | 90 SANTA ROSA AVE., P.O. BOX 1806, SANTA ROSA, CA 95402 | 11 | 115,247
CO: AURORA HOUSING AUTHORITY | 10745 E KENTUCKY AVENUE, AURORA, CO 80012 | 132 | 1,608,825
FL: MIAMI DADE HOUSING AUTHORITY | 701 NW 1ST COURT, 16TH FLOOR, MIAMI, FL 33136 | 20 | 207,970
KY: KENTUCKY HOUSING CORPORATION | 1231 LOUISVILLE ROAD, FRANKFORT, KY 40601 | 13 | 62,948
MA: LYNN HOUSING AUTHORITY | 10 CHURCH STREET, LYNN, MA 01902 | 6 | 63,306
MD: HOUSING AUTHORITY OF BALTIMORE | 417 EAST FAYETTE STREET, BALTIMORE, MD 21201 | 34 | 340,309
MI: DETROIT HOUSING COMMISSION | 1301 EAST JEFFERSON AVENUE, DETROIT, MI 48207 | 35 | 256,708
ND: MORTON COUNTY HOUSING AUTHORITY | P.O. BOX 517 1500 3RD AVE. NW, MANDAN, ND 58554 | 36 | 180,982
NE: OMAHA HOUSING AUTHORITY | 1805 HARNEY STREET, OMAHA, NE 68102 | 17 | 120,756
NJ: NEW JERSEY DEPARTMENT OF HOUSING | 101 SOUTH BROAD STREET, P.O. BOX 051, TRENTON, NJ 08625 | 1 | 13,308
NY: TOWN OF AMHERST/C/O BELMONT H/R | 1195 MAIN STREET, BUFFALO, NY | 14 | 69,444
OH: CUYAHOGA MHA | 8120 KINSMAN ROAD, CLEVELAND, OH 44104 | 33 | 206,814
OR: HA OF THE CITY OF OREGON | 360 CHURCH ST SE, SALEM, OR 97301 | 9 | 53,439
OR: HA OF JACKSON OREGON | 2231 TABLE ROCK ROAD, MEDFORD, OR 97501 | 55 | 295,501
RI: PROVIDENCE H A | 100 BROAD ST, PROVIDENCE, RI 02903 | 6 | 46,530
SC: HA COLUMBIA | 1917 HARDEN STREET, COLUMBIA, SC 29204 | 3 | 19,964
TN: HSG DEV AGENCY ELIZABETHTON | P.O. BOX 637, ELIZABETHTON, TN 37644 | 5 | 20,903
UT: HA OF CITY OF OGDEN | 1100 GRANT AVE., OGDEN, UT 84404 | 28 | 143,590
Total for Mod Replacements |  | 527 | 4,721,907
MTW Relocation/Replacement
MA: CAMBRIDGE HOUSING AUTHORITY | 675 MASSACHUSETTS AVENUE, CAMBRIDGE, MA 02139 | 399 | 6,734,562
Total for MTW Relocation/Replacement |  | 399 | 6,734,562
Relocation—Sunset
FL: CITY OF LAKELAND H/A | P.O. BOX 1009, 430 S HARTSELL AVENUE, LAKELAND, FL 33815 | 10 | 71,338
FL: HA PAHOKEE INC | 465 FRIEND TERRACE, PAHOKEE, FL 33476 | 32 | 314,715
FL: GAINESVILLE HOUSING AUTHORITY | 1900 SOUTHEAST FOURTH STREET, GAINESVILLE, FL 32641 | 36 | 255,036
LA: DENHAM SPRINGS HOUSING AUTHORITY | P.O. BOX 910, DENHAM SPRINGS, LA 70727 | 52 | 262,829
NJ: PATERSON HOUSING AUTHORITY | 60 VAN HOUTEN STREET, PATERSON, NJ 07505 | 3 | 34,072
VA: ALEXANDRIA REDEVELOPMENT & H/A | 401 WYTHE STREET, ALEXANDRIA, VA 22314 | 6 | 84,395
Total for Relocation-Sunset |  | 139 | 1,022,385
Replacement
AL: HA CITY OF MONTGOMERY | 525 SOUTH LAWRENCE STREET, MONTGOMERY, AL 36104 | 137 | 847,696
AR: HA OF THE CITY OF NORTH ARKANSAS | P.O. BOX 516, NORTH LITTLE ROCK, AR 72115 | 453 | 2,367,105
CA: SAN FRANCISCO HSG AUTH | 1815 EGBERT AVE., SAN FRANCISCO, CA 94124 | 125 | 2,549,250
CA: CITY OF LOS ANGELES HSG AUTH | 2600 WILSHIRE BLVD., 3RD FLOOR, LOS ANGELES, CA 90057 | 55 | 584,661
CT: CONNECTICUT DEPT OF HOUSING | 505 HUDSON STREET, HARTFORD, CT 06106 | 122 | 1,276,989
FL: ST. PETERSBURG HA | P.O. BOX 12849, ST. PETERSBURG, FL 33733 | 31 | 257,100
FL: HA WEST PALM BEACH GENERAL FUND | 1715 DIVISION AVENUE, WEST PALM BEACH, FL 33407 | 46 | 500,968
FL: CITY OF LAKELAND HA | P.O. BOX 1009, 430 S HARTSELL AVENUE, LAKELAND, FL 33815 | 9 | 64,205
FL: GAINESVILLE HOUSING AUTHORITY | 1900 SOUTHEAST FOURTH STREET, GAINESVILLE, FL 32641 | 49 | 347,132
FL: DANIA BEACH HA | 715 W. DANIA BEACH BLVD, DANIA BEACH, FL 33004 | 37 | 376,619
IL: HOUSING AUTHORITY OF JOLIET | 6 SOUTH BROADWAY STREET , JOLIET, IL 60436 | 154 | 1,683,086
IN: HA NEW ALBANY | P.O. BOX 11, NEW ALBANY, IN 47150 | 153 | 906,984
MD: HA OF THE CITY OF MARYLAND | 209 MADISON STREET, FREDERICK, MD 21701 | 95 | 1,086,343
NJ: PATERSON HOUSING AUTHORITY | 60 VAN HOUTEN STREET, PATERSON, NJ 07505 | 133 | 1,510,534
OR: HOME FORWARD PORTLAND HA | 135 SW ASH STREET, PORTLAND, OR 97204 | 234 | 2,030,549
PA: ALTOONA HOUSING AUTHORITY | 2700 PLEASANT VALLEY BOULEVARD, ALTOONA, PA 16602 | 4 | 17,814
RQ: PUERTO RICO DEPT OF HOUSING | P.O. BOX 21365, SAN JUAN, PR 00928 | 269 | 1,617,616
TN: KINGSPORT HOUSING AUTHORITY | P.O. BOX 44, KINGSPORT, TN 37662 | 295 | 1,321,794
TN: FRANKLIN HOUSING AUTHORITY | 200 SPRING STREET, FRANKLIN, TN 37065 | 12 | 68,262
TX: GALVESTON HOUSING AUTHORITY | 4700 BROADWAY, GALVESTON, TX 77551 | 66 | 556,792
TX: TAYLOR HSG AUTHORITY | 311-C EAST 7TH STREET, TAYLOR, TX 76574 | 15 | 107,215
TX: EDINBURG HOUSING AUTHORITY | P.O. BOX 295, EDINBURG, TX 78540 | 94 | 413,119
UT: EMERY COUNTY HOUSING AUTHORITY | BOX 551, CASTLE DALE, UT 84513 | 18 | 65,040
VA: PORTSMOUTH REDEVELOPMENT & HA | P.O. BOX 1098, 3116 SOUTH STREET, PORTSMOUTH, VA 23705 | 36 | 281,552
VA: ALEXANDRIA REDEVELOPMENT & HA | 401 WYTHE STREET, ALEXANDRIA, VA 22314 | 9 | 126,592
VA: NORFOLK REDEVELOPMENT & HA | 201 GRANBY ST, P.O. BOX 968, NORFOLK, VA 23501 | 129 | 1,147,663
WA: HOUSING AUTHORITY CITY OF EVERETT | 3107 COLBY AVE P.O. BOX 1547, EVERETT, WA 98206 | 150 | 1,435,465
WI: RACINE COUNTY HA | 837 MAIN STREET, RACINE, WI 53403 | 2 | 11,363
Total for Replacement |  | 2,932 | 23,559,508
Witness Relocation Assistance
LA: SHREVEPORT HSG AUTHORITY | 2500 LINE AVENUE, SHREVEPORT, LA 71104 | 1 | 12,480
MD: MONTGOMERY CO HOUSING | 10400 DETRICK AVENUE, KENSINGTON, MD 20895 | 1 | 21,108
Total for Witness Relocation Assistance |  | 2 | 33,588
Total for Public Housing TP |  | 4,676 | 43,052,435
Housing TP
Certain At-Risk Households Low Vacancy
MA: QUINCY HOUSING AUTHORITY | 80 CLAY STREET, QUINCY, MA 02170 | 60 | 698,789
MN: DULUTH HRA | P.O. BOX 16900, DULUTH, MN 55816 | 25 | 134,808
NJ: JERSEY CITY HOUSING AUTHORITY | 400 US HIGHWAY #1, JERSEY CITY, NJ 07306 | 8 | 84,108
PA: ERIE CITY HOUSING AUTHORITY | 606 HOLLAND STREET, ERIE, PA 16501 | 15 | 72,904
TN: MEMPHIS HOUSING AUTHORITY | P.O. BOX 3664, MEMPHIS, TN 38103 | 6 | 40,754
UT: HOUSING AUTHORITY OF SALT LAKE CITY | 1776 SW TEMPLE, SALT LAKE CITY, UT 84115 | 20 | 154,762
VA: FAIRFAX CO RED AND HNG AUTHORITY | 3700 PENDER DRIVE, SUITE 300, FAIRFAX, VA 22030 | 141 | 1,954,311
Total for Certain At-Risk Households Low Vacancy |  | 275 | 3,140,436
Mod Rehab SRO—RAD
CA: SAN FRANCISCO HSG AUTH | 1815 EGBERT AVE., SAN FRANCISCO, CA 94124 | 481 | 9,452,059
CA: CITY OF LOS ANGELES HSG AUTH | 2600 WILSHIRE BLVD., 3RD FLOOR , LOS ANGELES, CA 90057 | 103 | 1,094,910
CA: COUNTY OF CONTRA COSTA HSG AUTH | 3133 ESTUDILLO ST, P.O. BOX 2759, MARTINEZ, CA 94553 | 28 | 385,005
IL: CHICAGO HOUSING AUTHORITY | 60 EAST VAN BUREN ST, 11TH FLOOR, CHICAGO, IL 60605 | 221 | 2,214,420
MD: HA OF BALTIMORE | 417 EAST FAYETTE STREET, BALTIMORE, MD 21201 | 48 | 489,565
OH: DAYTON METROPOLITAN HA | 400 WAYNE AVE, P.O. BOX 8750, DAYTON, OH 45401 | 65 | 376,327
Total for Mod Rehab SRO—RAD |  | 946 | 14,012,286
Pre-Payment Vouchers
DE: WILMINGTON HOUSING AUTHORITY | 400 N WALNUT STREET, WILMINGTON, DE 19801 | 178 | 1,520,554
FL: HA FORT LAUDERDALE CITY | 437 SW 4TH AVENUE, FORT LAUDERDALE, FL 33315 | 48 | 479,497
MA: BOSTON HOUSING AUTHORITY | 52 CHAUNCY STREET, BOSTON, MA 02111 | 0 | 850,796
MA: CAMBRIDGE HOUSING AUTHORITY | 675 MASSACHUSETTS AVENUE, CAMBRIDGE, MA 02139 | 0 | 1,159,105
MI: DETROIT HOUSING COMMISSION | 1301 EAST JEFFERSON AVENUE, DETROIT, MI 48207 | 120 | 890,323
MN: DULUTH HRA | P.O. BOX 16900, DULUTH, MN 55816 | 6 | 32,354
NJ: NEW JERSEY DEPARTMENT OF HOUSING | 101 SOUTH BROAD STREET, POST OFFICE BOX 051, TRENTON, NJ 08625 | 60 | 616,680
NY: NYS HSG TRUST FUND CORPORATION | 38-40 STATE STREET, ALBANY, NY 12207 | 147 | 1,532,369
VA: FAIRFAX CO RED AND HNG AUTHORITY | 3700 PENDER DRIVE, SUITE 300, FAIRFAX, VA 22030 | 113 | 1,566,221
Total for Pre-payment Vouchers |  | 672 | 8,647,899
Relocation 8bb Sunset
OR: COOS-CURRY HOUSING AUTHORITY | 1700 MONROE, NORTH BEND, OR 97459 | 4 | 19,060
WA: HA OF THE CITY OF RENTON | 2900 NE 10TH STREET, RENTON, WA 98056 | 12 | 129,316
Total for Relocation 8bb Sunset |  | 16 | 148,376
Termination/Opt-Out Vouchers
CA: CITY OF LOS ANGELES HSG AUTH | 2600 WILSHIRE BLVD., 3RD FLOOR, LOS ANGELES, CA 90057 | 37 | 393,318
CT: HARTFORD HOUSING AUTHORITY | 160 OVERLOOK TERRACE, HARTFORD, CT 06106 | 142 | 1,266,992
DC: D.C. HOUSING AUTHORITY | 1133 NORTH CAPITOL STREET NE, WASHINGTON, DC 20002 | 12 | 178,032
FL: HA TAMPA | 1514 UNION ST, P.O. BOX 4766, TAMPA, FL 33607 | 170 | 1,395,258
FL: HA MIAMI BEACH | 200 ALTON ROAD, MIAMI BEACH, FL 33139 | 49 | 661,467
FL: HIALEAH HA | 75 EAST 6TH STREET, HIALEAH, FL 33010 | 14 | 144,152
FL: HA HOLLYWOOD | 7300 N. DAVIE ROAD EXTENSION, HOLLYWOOD, FL 33024 | 67 | 691,754
IL: DUPAGE COUNTY HOUSING AUTHORITY | 711 EAST ROOSEVELT ROAD, WHEATON, IL 60187 | 67 | 655,389
KY: LOUISVILLE HOUSING AUTHORITY | 420 SOUTH EIGHTH STREET, LOUISVILLE, KY 40203 | 13 | 103,289
LA: EAST BATON ROUGE PH. HSG. AUTHORITY | 4731 NORTH BLVD., BATON ROUGE, LA 70806 | 52 | 416,015
MA: CHELSEA HOUSING AUTHORITY | 54 LOCKE STREET, CHELSEA, MA 02150 | 9 | 110,703
MN: DULUTH HRA | P.O. BOX 16900, DULUTH, MN 55816 | 2 | 10,785
MN: BEMIDJI HRA | 619 AMERICA AVE., BEMIDJI, MN 56601 | 6 | 29,953
MO: HOUSING AUTHORITY OF KANSAS CITY | 920 MAIN STREET, SUITE 701, KANSAS CITY, MO 64106 | 4 | 28,665
MO: RIPLEY COUNTY PHA | 3019 FAIR STREET, POPLAR BLUFF, MO 63901 | 15 | 49,637
NC: RALEIGH HOUSING AUTHORITY | 900 HAYNES STREET, RALEIGH, NC 27604 | 52 | 362,438
ND: RICHLAND COUNTY HOUSING AUTHORITY | 230 8TH AVENUE WEST, WEST FARGO, ND 58078 | 13 | 55,658
NM: EASTERN REGIONAL HOUSING | P.O. DRAWER 2057, 106 E REED, ROSWELL, NM 88202 | 26 | 144,390
NY: NYS HSG TRUST FUND CORPORATION | 38-40 STATE STREET, ALBANY, NY 12207 | 11 | 114,667
OH: COLUMBUS METRO. HA | 880 EAST 11TH AVENUE, COLUMBUS, OH 43211 | 117 | 754,207
OH: LORAIN MHA | 1600 KANSAS AVENUE, LORAIN, OH 44052 | 38 | 230,002
OH: MANSFIELD MHA | P.O. BOX 1029, 150 PARK AVENUE WEST, MANSFIELD, OH 44901 | 40 | 173,654
SD: SIOUX FALLS HOUSING & | 630 SOUTH MINNESOTA, SIOUX FALLS, SD 57104 | 4 | 24,835
SD: PIERRE HOUSING & REDEVELOPMENT | 301 W PLEASANT AVE., PIERRE, SD 57501 | 23 | 94,287
SD: BROOKINGS HOUSING AUTHORITY | 1310 MAIN AVE., SOUTH, BROOKINGS, SD 57006 | 6 | 30,835
TN: TENNESSEE HOUSING DEV AGENCY | 502 DEADERICK STREET, 3RD FLOOR, NASHVILLE, TN 37243 | 3 | 17,569
TX: EDINBURG HOUSING AUTHORITY | P.O. BOX 295, EDINBURG, TX 78540 | 8 | 32,608
UT: WEBER COUNTY HOUSING AUTHORITY | 2661 WASHINGTON BLVD., OGDEN, UT 84401 | 57 | 324,085
VA: NORFOLK REDEVELOPMENT & HA | 201 GRANBY ST, P.O. BOX 968, NORFOLK, VA 23501 | 81 | 722,147
VA: BUCKINGHAM HOUSING DEVELOPMENT | 19 N GOLD HILL VILLAGE, NEW CANTON, VA 23123 | 20 | 104,522
WA: SEATTLE HOUSING AUTHORITY | 120 SIXTH AVENUE NORTH, P.O. BOX 19028, SEATTLE, WA 98109 | 12 | 173,079
WA: HA OF THE CITY OF WASHINTON | 902 SOUTH “L” STREET, SUITE 2C, TACOMA, WA 98405 | 6 | 56,737
WI: WISCONSIN HA & ECON DEVELOPMENT | P.O. BOX 1728, MADISON, WI 53701 | 49 | 245,578
Total for Termination/Opt-out Vouchers |  | 1,225 | 9,796,707
Total for Housing TP |  | 3,134 | 35,745,704
Grand Total |  | 7,810 | 79,434,039

[FR Doc. 2019-08747 Filed 4-29-19; 8:45 am]

BILLING CODE 4210-67-P